DEPARTMENT OF JUSTICE

Notice of Lodging of Consent Decree Pursuant to the Clean Water Act

Pursuant to the Clean Water Act and the categorical pretreatment standards contained at 40 CFR 414.55 and 414.111, notice is hereby given that a proposed consent decree embodying a settlement in United States v. Georgia-Pacific Resins, Inc., CIV-S-00-2531 GEB-PAN (E.D. Cal.), was lodged on November 16, 2000, with the United States District Court for the Eastern District of California.

Specifically, Georgia-Pacific discharged zinc and toluene in excess of the categorical pretreatment standards from its thermosetting resin manufacturing facility located at Elk Grove, California, to the Sacramento Regional County Sanitation District's Treatment Plant.

Under the proposed consent decree, the settling party will pay a $165,000 penalty and perform a supplemental environmental project which will result in Georgia-Pacific reducing the amount of hazardous solids generated in the resin manufacturing process.

The Department of Justice will receive, for a period of thirty (30) days from the date of this publication, comments relating to the proposed consent decree. Comments should be addressed to the Assistant Attorney General for the Environment and Natural Resources Division, U.S. Department of Justice, Box 7611, Ben Franklin Station, Washington, DC 20044-7611, and should refer to United States v. Georgia-Pacific Resins, Inc. DOJ Ref. #90-5-1-1-3954A.

The proposed consent decree may be examined at the Office of the United States Attorney for the Eastern District of California, 501 “I” Street, Suite 10-100, Sacramento, California 95814. A copy of the proposed consent decree may also be obtained by mail from the Department of Justice Consent Decree Library, Box 7611, Ben Franklin Station, Washington, DC 20044-7611. In requesting a copy, please refer to the referenced case and enclose a check in the amount of $4.75 (25 cents per page reproduction costs), payable to the Consent Decree Library.

Walker B. Smith,
Principal Deputy Section Chief, Environmental Enforcement Section, Environment and Natural Resources Division.

[FR Doc. 00-31770 Filed 12-13-00; 8:45 am]

BILLING CODE 4410-15-M